DEPARTMENT OF THE INTERIOR

Bureau of Land Management

[UT-040-1430-EU; UTU-79247]

Notice of Intent and Notice of Realty Action

AGENCY: Bureau of Land Management (BLM), Interior.

ACTION: Notice of Intent for a proposed plan amendment and Notice of Realty Action (NORA) for conveyance of public lands.

SUMMARY: This Notice of Intent is to advise the public that the Bureau of Land Management (BLM), Cedar City Field Office intends to consider a proposal which would require amending an existing planning document. The BLM is proposing to amend the Cedar, Beaver, Garfield, Antimony Resource Management Plan, approved October 1, 1986. The purpose of the proposed plan amendment would be to identify certain public land as suitable for disposal by direct sale under the provisions of Section 203 of the Federal Land Policy and Management Act of October 21, 1976 (43 U.S.C. 1701, 1713). The public lands identified for direct sale are comprised of 20 acres located in Beaver County and are described as follows:

Salt Lake Meridian

T. 29 S., R. 8 W.,

Sec. 20, E½W½SW¼SE¼;

Sec. 29, E½W½NW¼NE¼.

Containing 20 acres.

This publication also constitutes a Notice of Realty Action for the conveyance of a patent for the public lands described above to Eric R. and Lisa A. Jessup by direct non-competitive sale at not less than appraised market value. The sale includes the surface estate only.

The patent, when issued, will reserve to the United States: A right-of-way (ROW) thereon for ditches or canals constructed by the authority of the United States, Act of August 30, 1890 (43 U.S.C. 945) and all mineral deposits, including oil and gas, with the right to prospect for, mine, and remove the same under applicable law and such regulations as the Secretary may prescribe.

DATES: The comment period for this proposed plan amendment will commence with publication of this notice. Comments must be received on or before July 8, 2002.

ADDRESSES: All comments concerning this proposed sale should be addressed to A.J. Meredith, Cedar City Field Office Manager, 176 East D.L. Sargent Drive, Cedar City, Utah 84720.

Comments, including names and address of respondents will be available for public review at the BLM Cedar City Field Office and may be published as part of the Environmental Assessment and other related documents. Individual respondents may request confidentiality. If you wish to withhold your name or street address from public review and disclosure under the Freedom of Information Act, you must state this prominently at the beginning of your written request. Such requests will be honored to the extent allowed by law. All submissions from organizations and businesses, and from individuals identifying themselves as representatives or officials of organizations or businesses, will be made available for public inspection in their entirety.

FOR FURTHER INFORMATION CONTACT: Additional information concerning the land sale may be obtained from the Cedar City Field Office at the above address. Telephone calls may be directed to Ervin Larsen at (435) 865-3081.

SUPPLEMENTARY INFORMATION: The existing plan does not identify these lands for disposal. However, because of the resource values, public values and objectives involved, the public interest may well be served by sale of these lands. An environmental assessment will be prepared by an interdisciplinary team to analyze the impacts of this proposal and alternatives.

Publication of this notice in the Federal Register segregates the public lands from appropriations under the public land laws, including the mining laws, pending disposition of this action, or 270 days from the date of publication of this notice, whichever occurs first. The sale will be conducted no sooner than July 22, 2002.

Dated: April 8, 2002.
Sally Wisely,
State Director.

[FR Doc. 02-12907 Filed 5-22-02; 8:45 am]

BILLING CODE 4310-$$-P